DEPARTMENT OF ENERGY

Federal Energy Regulatory Commission

[Docket No. ER01-1383-000]

Caledonia Generating, L.L.C.; Notice of Issuance of Order

May 9, 2001.

Correction

In notice document 01-12148, beginning on page 26848, in the issue of Tuesday, May 15, 2001, the docket number should read as set forth above.

[FR Doc. C1-12148 Filed 5-18-01; 8:45 am]

BILLING CODE 1505-01-D

FEDERAL TRADE COMMISSION

Agency Information Collection Activities; Proposed Collection; Comment Request; Extension

Correction

In notice document 01-11237 beginning on page 22561 in the issue of Friday, May 4, 2001, make the following correction:

On page 22562, in the second column, in the first paragraph in the 12th line, “hrs. x 0.8 x $15 = $3,000). ” should read “hrs. x 0.80 x $125 = $1000,000)+ clerical time (1,000 hrs. x 0.2 x $15 = $3,000).]”

[FR Doc. C1-11237 Filed 5-18-01; 8:45 am]

BILLING CODE 1505-01-D

DEPARTMENT OF HEALTH AND HUMAN SERVICES

Administration for Children and Families

[Program Announcement No. CFDA 93.576]

ORR Standing Announcement for Services to Recently Arrived Refugees¹

Correction

In notice document 01-11680, beginning on page 23705, in the issue of Wednesday, May 9, 2001, make the following correction:

On page 23706, in the second column, under the heading FOR FURTHER INFORMATION CONTACT:, in the third line, the web address “ Sbenjamin@commat;ACF.DHHS.GOV” should read “Sbenjamin@ACF.DHHS.GOV”.

[FR Doc. C1-11680 Filed X-XX-01; 8:45 am]

BILLING CODE 1505-01-D

DEPARTMENT OF JUSTICE

[AAG/A Order No. 227-2001]

Privacy Act of 1974; System of Records

Correction

In notice document 01-9910, beginning on page 20478, in the issue of Monday, April 23, 2001, make the following corrections:

1. On page 20478, in the third column, under the heading SUPPLEMENTARY INFORMATION:, in the fifth line, “reduce” should read “reduced”.

2. On page 20478, in the third column, footnote 1 at the bottom of the page, should appear on page 20479, in the first column, at the bottom of page.

3. On page 20479, in the first column, under the heading “Categories of Records in the System:”, in the 10th line, “a” should read “as”.

4. On page 20480, in the second column, under the heading “System Exempted From Certain Provisions of This Act:”, in the fourth line, “(3)(1)” should read “(e)(1)”.

[FR Doc. C1-9910 Filed X-XX-01; 8:45 am]

BILLING CODE 1505-01-D

DEPARTMENT OF TRANSPORTATION

Federal Aviation Administration

14 CFR Parts 121 and 135

[Docket No. FAA-2000-7119; Amendment No. 121-280 and 135-78]

RIN 2120-AG89

Emergency Medical Equipment

Correction

In rule document 01-8932 beginning on page 19028 in the issue of Thursday, April 12, 2001, make the following corrections:

1. On page 19029, in the third column, under the “Storage” heading, fifth line, “Wtih” should read “With”.

2. On the same page, in the same column, under the “Visual Inspection” heading, first line, “he” should read “the”.

3. On page 19030, in the second column, in the third paragraph, 16th line “on” should read “one”.

4. On page 19031, in the first column, item number 3., the second line, “contained” should read “container”.

5. On the same page, in the second column, ninth line from the bottom of the page, “A non-pop off valve” should read “A no-pop off valve”.

6. On page 19033, in the second column, in first complete paragraph, 22nd line, “past” should read “part”.

7. On the same page, in the third column, under the heading “Single Flight Attendant Requirement”, second paragraph, sixth line, “first-air” should read “first-aid ”.

8. On page 19037, in the first column, under the heading “Suggested Training for Pilots”, in the “FAA response”, eighth line, “circumstance,s” should read “circumstances, ”.

9. On page 19038, in the first column, first paragraph, fifth line, “outlines” should read “outlined”.

10. On the same page, in the second column, under the heading “Other Suggested Rule Language Changes for This Action”, fourth paragraph, seventh line, “hand-on” should read “hands-on”.

11. On page 19039, in the first column, the heading Alternative Considered; should read Alternatives Considered.

12. On the same page, in the second column, fourth paragraph, sixth line, “burden some” should read “burdensome”.

13. On page 19040, in the first column,in the first line, “thre” should read “the” and “airline” should read “airlines ”.

14. On the same page, first full paragraph, second line, “Felxibility ” should read “Flexibility”.

15. On page 19041, in the second column, first paragraph, “SARO” should read “SARP”.

16. On page 19042, in the second column, first full paragraph, first line, “AED's EMK's and training” should read “AED's, EMK's, and training”.

[FR Doc. C1-8932 Filed 5-18-01; 8:45 am]

BILLING CODE 1505-01-D